DEPARTMENT OF DEFENSE

Office of the Secretary

AFRICOM Partnership Forum (APF); Notice of Meeting; Correction

AGENCY: United States Africa Command (USAFRICOM), DoD.

ACTION: Notice of meeting; correction.

SUMMARY: On Thursday, April 2, 2015 (80 FR 17729), the Department of Defense published a notice titled Africa Partnership Forum (APF) Day; Notice of Meeting. Subsequent to the publication of that notice, the Department of Defense discovered several errors throughout the published notice. This notice corrects those errors.

DATES: This notice is effective May 14, 2015.

FOR FURTHER INFORMATION CONTACT: Aaron Siegel, 571-372-0488.

SUPPLEMENTARY INFORMATION: On page 17729, make the following corrections:

1. The subject of the notice is corrected to read as set forth above.

2. In the SUMMARY section, in the first column, in the second line, “(USAFRTCOM)” should read “(USAFRICOM)”.

3. In the SUMMARY section, in the first column, in the third and fourth lines, “Africa Partnership Forum (APF) Day” should read “AFRICOM Partnership Forum.”

4. In the SUMMARY section, in the second column, in the second and third lines, “Africa Partnership Forum Day” should read “AFRICOM Partnership Forum.”

5. In the FOR FURTHER INFORMATION CONTACT section, in the 13th and 14th lines, “USAFRICOM Africa Partnership Forum (APF)” should read “AFRICOM Partnership Forum (APF)”.

6. In the FOR FURTHER INFORMATION CONTACT section, in the second paragraph, the second sentence “The three-day, USAFRICOM APF 8-12 will be held in Stuttgart, Germany” should read “The three-day, APF June 8-12 will be held in Stuttgart, Germany.”

7. In the SUPPLEMENTARY INFORMATION section, immediately following the fourth paragraph, add the following sentence: “Additional details about the agenda can be found at http://www.ncsi.com/africom/2015/index.php.

Dated: May 11, 2015.
Aaron Siegel,
Alternate OSD Federal Register Liaison Officer, Department of Defense.

[FR Doc. 2015-11650 Filed 5-13-15; 8:45 am]

BILLING CODE 5001-06-P